DEPARTMENT OF HOUSING AND URBAN DEVELOPMENT

[Docket No. 5189-N-01]

Notice of Proposed Information Collection Comment Request; Certification and Funding of State and Local Fair Housing Enforcement Agencies

AGENCY: Office of the Assistant Secretary for Fair Housing and Equal Opportunity, HUD.

ACTION: Notice.

SUMMARY: The proposed information collection requirement concerning the certification and funding of State and local fair housing enforcement agencies will be submitted to the Office of Management and Budget (OMB) for review, as required by the Paperwork Reduction Act. The Department is soliciting public comments on the subject proposal.

DATES: Comments Due Date: April 8, 2008.

ADDRESSES: Interested persons are invited to submit comments regarding this proposal. Comments should refer to the proposal by name and/or OMB Control Number and should be sent to: Lillian L. Deitzer, Reports Management Officer, Department of Housing and Urban Development, 451 7th Street, SW., Room 4178, Washington, DC 20410, telephone (202) 402-8048 (this is not a toll-free number) for copies of the proposed forms and other available information.

FOR FURTHER INFORMATION CONTACT: Kenneth J. Carroll, Director, Fair Housing Assistance Program, Office of Fair Housing and Equal Opportunity, Department of Housing and Urban Development, 451 7th Street, SW., Room 5222, Washington, DC 20410, telephone (202) 402-7044. (This is not a toll-free number). Hearing or speech-impaired individuals may access this number TTY by calling the toll-free Federal Information Relay Service at 1-800-877-8399.

SUPPLEMENTARY INFORMATION: The Department is submitting the proposed information collection to OMB for review, as required by the Paperwork Reduction Act of 1995 (44 U.S.C. Chapter 34, as amended).

This Notice is soliciting comments from members of the public and affected agencies concerning the proposed collection of information to: (1) Enhance the certification and funding of State and local fair housing enforcement agencies, (2) Enhance the quality, utility, and clarity of the information to be collected; and (3) Minimize the burden of the collection of information on those who respond; including the use of appropriate automated collection techniques or other forms of information technology, e.g., permitting electronic submission of responses.

Notice of Submission of Proposed Information Collection to OMB

Title of Proposal: Certification and Funding of State and Local Fair Housing Enforcement Agencies.

Office: Fair Housing and Equal Opportunity.

OMB Control Number: 2529-0005.

Description of the need for the information and proposed use:

A. Request for Substantial Equivalence

State and local fair housing enforcement agencies that are seeking certification in accordance with Section 810(f) of the federal Fair Housing Act (the FHA) submit a request to the Assistant Secretary for Fair Housing and Equal Opportunity. The request must be supported by the text of the jurisdiction's fair housing law, the law creating and empowering the agency, all laws referenced in the jurisdiction's fair housing law, any regulations and directives issued under the law, and any formal opinions of the State Attorney General or the chief legal officer of the jurisdiction that pertain to the jurisdiction's fair housing law. A request shall also include organizational information of the agency responsible for administering and enforcing the law.

B. Information Related to Agency Performance

Once agencies are participating in the FHAP, HUD collects sufficient information to monitor agency performance in accordance with 24 CFR 115.206, which sets forth the performance standards for agencies participating in the FHAP. These standards are meant to ensure that the state or local law, both “on its face” and “in operation,” provides substantive rights, procedures, remedies, and judicial review procedures for alleged discriminatory housing practices that are substantially equivalent to those provided in the FHA. In addition, HUD collects sufficient information to monitor agency compliance with 24 CFR 115.307 and 24 CFR 115.308, which set forth requirements for FHAP participation and reporting and record keeping requirements including, but not limited to, the requirement that FHAP agencies use HUD's official complaint data information system, and input complaint processing information into that system in a timely manner.

Frequency of Submission: The Department estimates that requests for substantial equivalence will have the following reporting burdens:

| Number of respondents | × | Annual responses | × | Hours of response | = | Burden hours
Reporting Burden | 40 |  | 4 |  | 10 |  | 1,600

The Department estimates that reporting information related to agency performance will have the following reporting burdens:

| Number of respondents | × | Annual responses | × | Hours of response | = | Burden hours
Reporting Burden | 106 |  | 33 |  | 20 |  | 69,960

Total Estimated Burden Hours: 71,560.

Status: Extension of currently approved collection.

Authority: The Paperwork Reduction Act of 1995, 44 U.S.C. Chapter 35, as amended.

Dated: February 5, 2008.
Lynn M. Grosso,
Director, Office of Enforcement, Office of Fair Housing and Equal Opportunity.

[FR Doc. E8-2386 Filed 2-7-08; 8:45 am]

BILLING CODE 4210-67-P